DEPARTMENT OF TRANSPORTATION

Surface Transportation Board

[Docket No. FD 35862]

Arkansas Louisiana & Mississippi Railroad Company—Lease and Operation Exemption Including Interchange Commitment—Union Pacific Railroad Company

Arkansas Louisiana & Mississippi Railroad Company (ALM), a Class III rail carrier, has filed a verified notice of exemption under 49 CFR 1150.41 to lease from Union Pacific Railroad Company (UP) and operate approximately 9.32 miles of rail line, known as the Bastrop Lead, between mileposts 551.25 and 560.57, in Collinston, La.

ALM and UP have entered into a lease agreement wherein the Bastrop Lead connects with another line leased by ALM between Bastrop and Monroe, La., to UP's McGehee Sub at Collinston. According to ALM, the lease will allow ALM and UP to shift their primary interchange location from Monroe to Collinston, which should allow for more efficient interchange and handling of traffic that is moved jointly by the carriers.

As required by 49 CFR 1150.43(h), ALM has disclosed in the verified notice that the subject lease agreement contains an interchange commitment that indirectly affects interchange with Kansas City Southern Railway Company at Monroe.

ALM has certified that its projected annual revenues as a result of this transaction will not result in ALM's becoming a Class II or Class I rail carrier, but that its annual revenues exceed $5 million. Accordingly, as required by 49 CFR 1150.42(e), ALM has certified that: (1) On October 16 and 23, 2014, a copy of the verified notice was posted at the workplaces of the employees on the line, and (2) on October 24, 2014, a copy of the verified notice was served on the national offices of all labor unions with employees on the line. Additionally, under 49 CFR 1150.42(b), a change in operators requires that notice be given to shippers. ALM states that there are no shippers on the line.

The earliest this transaction may be consummated is December 26, 2014, the effective date of the exemption (30 days after the exemption was filed). ALM states that it intends to consummate the transaction on or shortly after that date.

If the verified notice contains false or misleading information, the exemption is void ab initio. Petitions to revoke the exemption under 49 U.S.C. 10502(d) may be filed at any time. The filing of a petition to revoke will not automatically stay the effectiveness of the exemption. Petitions for stay must be filed no later than December 19, 2014 (at least seven days before the exemption becomes effective).

An original and 10 copies of all pleadings, referring to Docket No. FD 35862, must be filed with the Surface Transportation Board, 395 E Street SW., Washington, DC 20423-0001. In addition, one copy of each pleading must be served on Eric M. Hocky, Clark Hill, PLC, One Commerce Square, 2005 Market Street, Suite 1000, Philadelphia, PA 19103.

Board decisions and notices are available on our Web site at WWW.STB.DOT.GOV.

Decided: December 9, 2014.
By the Board, Rachel D. Campbell, Director, Office of Proceedings.
Brendetta S. Jones,
Clearance Clerk.

[FR Doc. 2014-29186 Filed 12-11-14; 8:45 am]

BILLING CODE 4915-01-P